DEPARTMENT OF TRANSPORTATION

[Docket No. DOT-OST-2010-0054]

Renewal of Information Collection (OMB No. 2105-0551); Agency Request for Renewal of Previously Approved Information Collections: Nondiscrimination on the Basis of Disability in Air Travel: Reporting Requirements for Disability-Related Complaints

AGENCY: Office of the Secretary (OST), Department of Transportation (Department or DOT).

ACTION: Notice and request for comments.

SUMMARY: In compliance with the Paperwork Reduction Act of 1995, the Department of Transportation's Office of the Secretary is forwarding the Information Collection Request (ICR) described below to the Office of Management and Budget (OMB) for approval. The ICR describes the nature of the information and the expected burden. OST published a Federal Register notice with a 60-day comment period soliciting comments on the following collection of information on December 20, 2018 (83 FR 65393). The purpose of this notice is to allow the public an additional 30 days from the date of this notice to submit comments to the recently published application to renew ICR 2105-0551, “Reporting Requirements for Disability-Related Complaints.”

DATES: Comments on this notice must be received by April 10, 2019.

ADDRESSES: Your comments should be identified by Docket No. DOT-OST-2010-0054 and should be submitted through one of the following methods:

• Federal eRulemaking Portal: http://www.regulations.gov. Follow the online instructions for submitting comments.

• Office of Management and Budget, Attention: Desk Officer for U.S. Department of Transportation, Office of the Secretary of Transportation, 725 17th Street NW, Washington, DC 20503.

• Email: oira_submission@omb.eop.gov.

• Fax: (202) 395-5806.

FOR FURTHER INFORMATION CONTACT: Maegan Johnson, Office of the General Counsel, Office of the Secretary, U.S. Department of Transportation, 1200 New Jersey Avenue SE, Washington, DC 20590, 202-366-9342 or maegan.johnson@dot.gov. Arrangements to receive this document in an alternative format may be made by contacting the above-named individual.

SUPPLEMENTARY INFORMATION: The Paperwork Reduction Act of 1995 (PRA) and its implementing regulations, 5 CFR part 1320, require Federal agencies to issue two notices seeking public comment on information collection activities before OMB may approve paperwork packages. 44 U.S.C. 3506, 3507; 5 CFR 1320.5, 1320.8(d)(1), 1320.12. On December 20, 2018, OST published a 60-day notice in the Federal Register soliciting comment on ICRs for which the agency was seeking OMB approval. See 83 FR 65393. OST received no comments after issuing this notice. Accordingly, the Department has not made any changes to its anticipated burden hours for the respondents to comply with these requirements. The Department announces that these information collection activities have been re-evaluated and certified under 5 CFR. 1320.5(a) and is forwarding to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). OMB believes that the 30-day notice informs the regulated community to file relevant comments and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995). The summaries below describe the nature of the ICR and the expected burden.

OMB Control Number: 2105-0551.

Title: Reporting Requirements for Disability-Related Complaints.

Type of Request: Renewal of Information Collection.

Background: On July 8, 2003, the Office of the Secretary published a final rule that requires certificated U.S. and foreign air carriers operating to, from and within the U.S. that conduct passenger-carrying service utilizing at least one large aircraft to record complaints that they receive alleging inadequate accessibility or discrimination on the basis of disability. The carriers must also categorize these complaints according to the type of disability and nature of complaint, prepare a summary report annually of the complaints received during the preceding calendar year, submit the report to the Department's Aviation Consumer Protection Division, and retain copies of correspondence and records of action taken on the reported complaints for three years. The rule requires carriers to submit their annual report via the World Wide Web except if the carrier can demonstrate an undue burden by doing so and receives permission from the Department to submit it in an alternative manner. The first required report covered disability-related complaints received by carriers during calendar year 2004, which was due to the Department on January 31, 2005. Carriers have been required to submit all subsequent reports on the last Monday in January for the prior calendar year. On March 7, 2016, OMB approved information collection of disability-related complaints, “Reporting Requirements for Disability-related Complaints” through March 31, 2019. The application to renew this information collection request was published in the Federal Register on Thursday, December 20, 2018, 83 FR 65393.

Respondents: Certificated U.S. and foreign air carriers operating to, from, and within the United States that conduct passenger-carrying service with large aircraft.

Requirements | Number of respondents (an average of the total number of respondents that reported over the past three years) | Frequency | Estimated annual burden | Estimated total annual burden
Record and Categorize Complaints Received | 177 | 0-6,444 Complaints (a range of the lowest number of complaints and an average of the highest number of complaints received over the past three years) | 8,148 hours (488,880 minutes) (time for all respondents to record and categorize each complaint [15 minutes] multiplied by the average total number of complaints received over the past three years [32,591] for all respondents) | 8,148 hours (488,880 minutes) (time for all respondents to record and categorize each complaint [15 minutes] multiplied by the average total number of complaints received over the past three years [32,591] for all respondents).
Prepare and Submit Annual Report | 177 | 1 report to DOT/year (for each respondent) | 30 minutes a year (per each respondent) | 88.5 hours (5,310 minutes) (estimated annual burden for all respondents [30 minutes] multiplied by the total number of respondents).
Retain Correspondences and Record of Action Taken | 177 | 0-6,444 Complaints/year (A range of the lowest number of complaints and an average of the highest number of complaints received over the past three years for each respondent) | 0-537 hours (0-to 32,220 minutes) (the estimated time it will take for each respondent to retain or save the correspondences and records of action taken on disability-related complaints [5 minutes] multiplied by the lowest number of complaints and the average highest number of complaints received per respondent over the past three years [0-6,444]) | 2,716 hours (162,955 minutes) (the estimated time it will take for all respondents to retain or save the correspondences and records of action taken on disability-related complaints [5 minutes] multiplied by the average total number of complaints received over the past three years [32,591] for all respondents).

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All comments will also become a matter of public record.

Issued in Washington, DC, on March 4, 2019.
Habib Azarsina,
OST PRA Clearance Officer.

[FR Doc. 2019-04384 Filed 3-8-19; 8:45 am]

BILLING CODE 4910-9X-P